DEPARTMENT OF LABOR

Employment and Training Administration

[TA-W-62,353]

Hewlett Packard: Fort Collins, CO; Notice of Termination of Investigation

Pursuant to Section 221 of the Trade Act of 1974, as amended, an investigation was initiated on October 24, 2007 in response to a petition filed by a state agency representative on behalf of workers at Hewlett Packard, Fort Collins, Colorado. The workers at the subject facility provide troubleshooting support for Hewlett Packard customers.

The petitioner has requested that the petition be withdrawn. Consequently, the investigation has been terminated.

Signed in Washington, DC, this 25th day of October 2007.
Richard Church,
Certifying Officer, Division of Trade Adjustment Assistance.

[FR Doc. E7-21349 Filed 10-30-07; 8:45 am]

BILLING CODE 4510-FN-P